DEPARTMENT OF TRANSPORTATION

Federal Highway Administration

Environmental Impact Statement: Dallas and Ellis Counties, Texas

AGENCY: Federal Highway Administration (FHWA), DOT.

ACTION: Supplemental notice of intent.

SUMMARY: The FHWA is issuing this notice to advise the public of a change in the study limits of an Environmental Impact Statement being prepared for a proposed transportation project in Dallas and Ellis Counties, Texas.

FOR FURTHER INFORMATION CONTACT: Mr. Salvador Deocampo, District Engineer, Federal Highway Administration, 300 East 8th Street, Room 826, Austin, Texas 78701, Telephone 512-536-5950.

SUPPLEMENTARY INFORMATION: The FHWA, in cooperation with the Texas Department of Transportation (TXDOT) and the Dallas County Department of Public Works, is preparing an Environmental Impact Statement (EIS) on the proposal to build Loop 9, a new location highway, from US 287 to IH 20 in Southern Dallas and Northern Ellis Counties. A previous notice, published in the Federal and State Registers identified the study limits as SH 360 to IH 20. Due to changes in the proposed alignment location in the vicinity of SH 360, the study limits have been changed from “SH 360 to IH 20” to “US 287 to IH 20”. The study corridor is still approximately 40 miles.

From a regional perspective, there is still a great demand for additional east-west transportation capacity and access throughout the limits of the corridor. Over the last 30 years, this area has experienced tremendous growth and has more than quadrupled in population. A Major Investment Study (MIS) will be integrated with the EIS. The Loop 9 facility is included in the Mobility 2025 Update: The Metropolitan Transportation Plan as a new location staged parkway calling for the preservation of right-of-way through this corridor. The environmental study will examine viable alternatives and potential transportation modes including the No-Build; Transportation Systems Management/Congestion Management Systems; controlled access freeway and other potential options. It will also include extensive and continuous public involvement to address the long-term mobility needs of both the region and local communities. The environmental study will include the determination of the number of lanes (four to six are anticipated), roadway configuration and operational characteristics. It will also include a discussion of the effects on the social, economic, and natural environments and of other known and reasonably foreseeable agency actions proposed within the Loop 9 study corridor.

A public scoping meeting was held in June of 2003. This was the first in a series of meetings to solicit public comments on the proposed action during the National Environmental Policy Act (NEPA) process. In addition, a public hearing will be held following the approval of the Draft EIS. Public notice will be given of the time and place of the meetings and the hearing. The Draft EIS will be available for public and agency review and comment before the public hearing.

To ensure that the full range of issues related to this proposed section are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program)
Dated: January 7, 2004.
Salvador Deocampo,
District Engineer, Austin, Texas.

[FR Doc. 04-1131 Filed 1-16-04; 8:45 am]

BILLING CODE 4910-22-M